FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning a company's eligibility for participation in the WYO. Program requirements require a one-time submission demonstrating their qualification for participation in the program.

SUPPLEMENTARY INFORMATION: The WYO was established in response to the increase in losses and escalating costs of natural disasters to American taxpayers. The Federal Insurance and Mitigation Administration (FIMA) has obtained the participation of private insurance companies in a joint venture to market and service flood insurance under their own names. FIMA may enter into an agreement with private insurance companies, whereby these companies may offer flood insurance coverage to eligible property owners. FIMA requires a one-time submission of information to determine a company's qualification, as set forth in 44 CFR part 62, subpart 62.24. FIMA requires the information to determine whether an applicant for entry or reentry has the ability to process flood insurance and meet the reporting requirements of the WYO Financial Control Plan.

Collection of Information:

Title: Write Your Own Program (WYO) Company Participation Criteria; New Applicants.

Type of Information Collection: New Collection.

Form Numbers: 3067-0259.

Abstract: Under the Write Your Own Program, private sector insurance companies may offer flood insurance to eligible property owners. The Federal Government is a guarantor of flood insurance coverage for WYO Companies, issued under the WYO arrangement. To determine eligibility for participation in the WYO, the NFIP is requiring a one-time submission demonstrating their qualification for participation from each new company seeking entry into the Program.

Affected Public: Business or other for profit.

Estimated Total Annual Burden Hours: 25.

FEMA forms | No. of respondents (A) | Frequency of response (B) | Hours per response (C) | Annual burden hours (A x B x C)
| 5 | 1 | 5 | 25
Total | 5 | 1 | 5 | 25

Estimated Cost: None

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities and Services Management Division, Administration and Resource Planning Directorate, Federal Emergency Management Agency, 500 C Street, SW., Room 316, Washington, DC 20472.

FOR FURTHER INFORMATION CONTACT: Contact Edward L. Connor, Director, Program Finance and Industry Relations Division, 202-646-3429 for additional information. You may contact Ms. Anderson for copies of the proposed collection of information at telephone number (202) 646-2625 or facsimile number (202) 646-3347 or e-mail muriel.Anderson@fema.gov.

Dated: July 29, 2002.
Reginald Trujillo,
Branch Chief, Program Services and Systems Branch, Facilities and Services Management Division, Administration and Resource Planning Directorate.

[FR Doc. 02-20150 Filed 8-8-02; 8:45 am]

BILLING CODE 6718-01-P